ENVIRONMENTAL PROTECTION AGENCY

[EPA-HQ-OPPT-2017-0127; FRL-9960-30]

Mercury; Initial Inventory Report of Supply, Use, and Trade

AGENCY: Environmental Protection Agency (EPA).

ACTION: Notice.

SUMMARY: EPA was directed by Congress in the Frank R. Lautenberg Chemical Safety for the 21st Century Act (Lautenberg Act), which amended the Toxic Substances Control Act (TSCA), to carry out and publish in the Federal Register not later than April 1, 2017, an inventory of mercury supply, use, and trade in the United States. The Lautenberg Act defines “mercury” as “elemental mercury” or “a mercury compound.” Consistent with this mandate, EPA is announcing the availability of this initial inventory report, which is a compilation of publicly available data on the supply, use, and trade of elemental mercury and mercury compounds.

FOR FURTHER INFORMATION CONTACT:

For technical information contact: Sue Slotnick, National Program Chemicals Division, Office of Pollution Prevention and Toxics, Environmental Protection Agency, 1200 Pennsylvania Ave. NW., Washington, DC 20460-0001; telephone number: (202) 566-1973; email address: slotnick.sue@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action applies to the public in general, and may be of particular interest to a wide range of stakeholders including members of the public interested in elemental mercury or mercury compounds generally or specifically in the supply, use, or trade of elemental mercury or mercury compounds, including mercury-added products and manufacturing processes, and interested in the assessment of chemical risks. As such, the Agency has not attempted to describe all the specific entities that may be interested in this action.

II. What action is the Agency taking?

As directed in TSCA section 8(b)(10)(B), EPA is publishing an inventory of mercury supply, use, and trade in the United States (15 U.S.C. 2507(b)(10)(B)). The Lautenberg Act defines “mercury” as “elemental mercury” or “a mercury compound” (15 U.S.C. 2507(b)(10)(A)). The purpose of the mercury inventory is to “identify any manufacturing processes or products that intentionally add mercury” (15 U.S.C. 2607(b)(10)(C)). This initial inventory report (Ref. 1) is a compilation of readily available, previously published data on the supply, use, and trade of elemental mercury and mercury compounds. Current, complete information is not available for some topics. EPA is not soliciting comments on this initial inventory report.

The Agency also is directed to carry out and publish such an inventory every three years after April 1, 2017, as supported by a rule authorized in the Lautenberg Act (15 U.S.C. 2507(b)(10)(B)). That rule must be promulgated by June 22, 2018. (15 U.S.C. 2507(b)(10)(B)). For inventories subsequent to the initial inventory report, EPA is authorized to promulgate a rule to “assist in the preparation of the inventory” so that “any person who manufactures mercury or mercury-added products or otherwise intentionally uses mercury in a manufacturing process shall make periodic reports to the Administrator, at such time and including such information as the Administrator shall determine” (15 U.S.C. 2607(b)(10)(D)). Future triennial inventories of mercury supply, use, and trade are expected to include data collected directly from persons who manufacture (including import) mercury or mercury-added products or otherwise intentionally use mercury in a manufacturing process.

III. References

The following is a listing of the documents that are specifically referenced in this document. The docket includes these documents and other information considered by EPA, including documents that are referenced within the documents that are included in the docket, even if the referenced document is not physically located in the docket. For assistance in locating these other documents, please consult the technical person listed under FOR FURTHER INFORMATION CONTACT.

• EPA. Mercury—U.S. Inventory Report: Supply, Use, and Trade. 2017.

Authority: 15 U.S.C. 2607(b)(10)(B).

Dated: March 23, 2017.
Wendy Cleland-Hamnett,
Acting Assistant Administrator, Office of Chemical Safety and Pollution Prevention.

[FR Doc. 2017-06205 Filed 3-28-17; 8:45 am]

BILLING CODE 6560-50-P